TENNESSEE VALLEY AUTHORITY

Proposed Standards on Smart Metering Interconnection, Net Metering, Fuels Sources, and Fossil Fuel Generation Efficiency

AGENCY: Tennessee Valley Authority (TVA).

ACTION: Notice.

SUMMARY: On August 17, 2006, Tennessee Valley Authority (“TVA”) published a notice (71 FR 47557) of the commencement of its consideration process for the Time-based Metering & Communications (hereinafter called “Smart Metering”), Interconnection, and Net Metering standards promulgated by section 111(d) of the Public Utility Regulatory Policies Act of 1978 (Pub. L. 95-617) as amended by the Energy Policy Act of 2005 (Pub. L. 109-58) (hereinafter called “PURPA”). This notice amends and supplements the August 17 notice to (1) set new deadlines related to the consideration of the three standards which were the subject of that notice and (2) inform the public of the commencement of TVA's consideration process for the two remaining standards listed in section 111(d) of PURPA, which are the Fuel Sources and Fossil Fuel Generation Efficiency standards.

TVA will consider adopting all five of these standards for itself as well as for the distributors of TVA power and will consider these standards on the basis of their effect on conservation of energy, efficient use of facilities and resources, equity among electric consumers, and the objectives of the Tennessee Valley Authority Act. In addition, the Smart Metering standard will be considered in light of whether the benefits to the electric utility and its consumers are likely to exceed the costs of new metering and communications. Comments are requested from the public on whether TVA should adopt these standards or any variations on them.

DATES: The record for the Smart Metering standard was due to close on December 1, 2006. However, the comment period for this standard will be extended, and the record will close on June 1, 2007. The record for the Interconnection and Net Metering standards is due to close on March 1, 2007. The comment period for these two standards will also be extended to close on June 1, 2007. Accordingly, public comments will continue to be accepted for submission to the official record on the Smart Metering, Interconnection, and Net Metering standards until June 1, 2007.

At this time, TVA initiates its consideration of the Fuel Sources and Fossil Fuel Generation Efficiency standards. Data, views, and comments on these standards are requested in order to glean the public's views on the need and desirability of such standards. Comments on variations in any of the standards, as well as comments for or against their adoption are welcome. The record for the Fuel Sources and Fossil Fuel Generation Efficiency standards will close on June 1, 2007. Public comments on these standards must be received by this date. As to each of the five standards, written comments of TVA staff concerning the standard will be made a part of the official record at least 30 days before the date the record closes.

ADDRESSES: Written comments should be sent to: PURPA Standards Hearings, Attn: Carl Seigenthaler, Tennessee Valley Authority, One Century Place, 26 Century Boulevard, Nashville, TN 37214. Comments may also be submitted via the Web, at http://www.tva.com/purpa.

FOR FURTHER INFORMATION CONTACT: Carl Seigenthaler, Tennessee Valley Authority, One Century Place, 26 Century Boulevard, Nashville, TN 37214, (615) 232-6070.

SUPPLEMENTARY INFORMATION: Standards. The standards about which a determination will be made are:

(1) Smart Metering.

A. Not later than 18 months after the date of enactment of this paragraph, each electric utility shall offer each of its customer classes, and provide individual customers upon customer request, a time-based rate schedule under which the rate charged by the electric utility varies during different time periods and reflects the variance, if any, in the utility's costs of generating and purchasing electricity at the wholesale level. The time-based rate schedule shall enable the electric consumer to manage energy use and cost through advanced metering and communications technology.

B. The types of time-based rate schedules that may be offered under the schedule referred to in subparagraph (A) include, among others—

i. Time-of-use pricing whereby electricity prices are set for a specific time period on an advance of forward basis, typically not changing more often than twice a year, based on the utility's cost of generating and/or purchasing such electricity at the wholesale level for the benefit of the consumer. Prices paid for energy consumed during these periods shall be pre-established and known to consumers in advance of such consumption, allowing them to vary their demand and usage in response to such prices and manage their energy costs by shifting usage to a lower cost period or reducing their consumption overall;

ii. Critical peak pricing whereby time-of-use prices are in effect except for certain peak days, when prices may reflect the costs of generating and/or purchasing electricity at the wholesale level and when consumers may receive additional discounts for reducing peak period energy consumption;

iii. Real-time pricing whereby electricity prices are set for a specific time period on an advanced or forward basis, reflecting the utility's cost of generating and/or purchasing electricity at the wholesale level, and may change as often as hourly; and

iv. Credits for consumers with large loads who enter into pre-established peak load reduction agreements that reduce a utility's planned capacity obligations.

C. Each electric utility subject to subparagraph (A) shall provide each customer requesting a time-based rate with a time-based meter capable of enabling the utility and customer to offer and receive such rate, respectively.

D. For purposes of implementing this paragraph, any reference contained in this section to the date of enactment of the Public Utility Regulatory Policies Act of 1978 shall be deemed to be a reference to the date of enactment of this paragraph.

E. In a State that permits third-party marketers to sell electric energy to retail electric consumers, such consumers shall be entitled to receive the same time-based metering and communications device and service as a retail electric consumer of the electric utility.

F. Notwithstanding subsections (b) and (c) of section 2622 of this title, each State regulatory authority shall, not later than 18 months after the date of enactment of this paragraph conduct an investigation in accordance with section 2625(i) of this title and issue a decision whether it is appropriate to implement the standards set out in subparagraphs (A) and (C).

(2) Interconnection. Each electric utility shall make available, upon request, interconnection service to any electric consumer that the electric utility serves. For purposes of this paragraph, the term “interconnection service” means service to an electric consumer under which an on-site generating facility on the consumer's premises shall be connected to the local distribution facilities. Interconnection services shall be offered based upon the standards developed by the Institute of Electrical and Electronics Engineers: IEEE Standard 1547 for Interconnecting Distributed Resources with Electric Power Systems, as they may be amended from time to time. In addition, agreements and procedures shall be established whereby the services are offered shall promote current best practices of interconnection for distributed generation, including but not limited to practices stipulated in model codes adopted by associations of state regulatory agencies. All such agreements and procedures shall be just and reasonable, and not unduly discriminatory or preferential.

(3) Net metering. Each electric utility shall make available upon request net metering service to any electric consumer that the electric utility serves. For purposes of this paragraph, the term “net metering service” means service to an electric consumer under which electric energy generated by that electric consumer from an eligible on-site generating facility and delivered to the local distribution facilities may be used to offset electric energy provided by the electric utility to the electric consumer during the applicable billing period.

(4) Fuel sources. Each electric utility shall develop a plan to minimize dependence on 1 fuel source and to ensure that the electric energy it sells to consumers is generated using a diverse range of fuels and technologies, including renewable technologies.

(5) Fossil fuel generation efficiency. Each electric utility shall develop and implement a 10-year plan to increase the efficiency of its fossil fuel generation.

Procedures. Written data, views, and comments on the standards are requested from the public and must be received by 5 p.m. EST on June 1, 2007. Written statements of the TVA staff concerning each standard will be made part of the official record at least 30 days before the date the record closes, at which time the staff comments will be made available to the public on request.

The official record will consist of all data, views, and comments, including written statements of the TVA staff, submitted within the time set forth above. A summary of the record will be prepared by TVA staff and will be transmitted to the TVA Board of Directors along with the complete record. The record will be used by the Board in making the determinations required by section 111(d) of PURPA.

Individual copies of the record will be available to the public at cost of reproduction. Copies will also be kept on file for public inspection at the following locations: Tennessee Valley Authority, One century Place, 26 Century Boulevard, Nashville, TN, (615) 232-6070; Tennessee Valley Authority, 1101 Market Street, Chattanooga, Tennessee, (423) 751-0011; and on the Web at http://tva.com/purpa.

Dated: January 10, 2007.
John P. Kernodle,
Assistant General Counsel.

[FR Doc. 07-156 Filed 1-19-07; 8:45 am]

BILLING CODE 8120-08-M